COMMISSION ON CIVIL RIGHTS

Sunshine Act Meeting Notice

AGENCY: United States Commission on Civil Rights.

ACTION: Notice of briefing and business meeting.

DATE AND TIME: Friday, July 25, 2014; 9:00 a.m. EST.

PLACE: 1331 Pennsylvania Ave. NW., Suite 1150, Washington, DC 20425.

Briefing Agenda—9:00 a.m.-1:30 p.m.

This briefing is open to the public.

Topic: Enforcement of Sexual Harassment Policy at Educational Institutions by the U.S. Department of Education's Office for Civil Rights (OCR) and the Civil Rights Division of the Department of Justice (DOJ).

I. Introductory Remarks by Chairman Castro.

II. Issue Panel I—9:05 a.m.-10:35 a.m.: OCR/DOJ Guidance Speakers' Remarks and Questions from Commissioners.

III. Issue Panel II—10:35 a.m.-11:56: Data on Sexual Harassment Speakers' Remarks and Questions from Commissioners.

IV. Issue Panel III—11:56 p.m.-1:30 p.m.: Pros/Cons on OCR/DOJ Guidance Speakers' Remarks and Questions from Commissioners.

V. Adjourn Briefing.

Business Meeting Agenda—2:00 p.m.

I. Program Planning.

a. Discussion and Vote on Part A & Part B of the briefing report: Increasing Compliance with Section 7 of the NVRA.

b. Consideration and Vote on Commission letter regarding Federal Response to the Unaccompanied Minor Immigrants.

c. Discussion and Vote on the FY2015 Statutory Enforcement Report topic.

d. Discussion and Vote on two briefing topics for FY2015.

II. Management and Operations.

• Staff Director's Report.

III. State Advisory Committee (SAC) Appointments

• Arizona.

• Missouri.

• Virginia.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

Dated: July 15, 2014.
Marlene Sallo,
Staff Director.

[FR Doc. 2014-17012 Filed 7-16-14; 11:15 am]

BILLING CODE 6335-01-P